FEDERAL MARITIME COMMISSION

Sunshine Act Meeting

TIME AND DATE: May 1, 2019; 10:00 a.m.

PLACE: 800 N. Capitol Street, NW, First Floor Hearing Room, Washington, DC.

STATUS: Parts of this meeting will be open to the public and will be streamed live at https://bit.ly/2IZBIkY. The rest of the meeting will be closed to the public.

MATTERS TO BE CONSIDERED:

Open Session

1. Licensing, Financial Responsibility Requirements, and General Duties for Ocean Transportation Intermediaries

2. Staff Briefing on Ocean Carrier Alliances

3. Staff Briefing on Frank LoBiondo Coast Guard Authorization Act of 2018

Closed Session

1. Staff Briefing on Georgia—South Carolina Marine Terminal Operator Cooperative Working Agreement, Agreement No. 201293

2. Staff Briefing on Puerto Nuevo Terminals LLC Cooperative Working Agreement, Agreement No. 201292

CONTACT PERSON FOR MORE INFORMATION: Rachel Dickon, Secretary, (202) 523-5725.

Rachel Dickon,
Secretary.

[FR Doc. 2019-08600 Filed 4-24-19; 4:15 pm]

BILLING CODE 6731-AA-P